DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 78 FR 73543-73545, dated December 6, 2013) is amended to reflect the reorganization for the staff offices within the Office of the Director, Centers for Disease Control and Prevention.

Section C-B, Organization and Functions, is hereby amended as follows:

After the functional statement for the Office of the Director (CA), insert the following:

Program Performance and Evaluation Office (CA1). The mission of the Program Performance and Evaluation Office (PPEO) is to increase the impact and effectiveness of public health programs through innovation and sound program design and the use of performance and evaluation data for continuous improvement. In carrying out this mission, PPEO: (1) Provides agency-wide direction, standards, and technical assistance for program planning, performance and accountability, and program evaluation and effectiveness; (2) serves as advisor to the CDC Principal Deputy Director and the CDC Director's Office on key programmatic activities; (3) provides intensive analytic and advisory assistance to enable effective redesign of select program priorities; (4) represents the CDC vision, mission, and program strategy internally and externally; (5) develops and promotes new initiatives based on emerging issues, science, and policy; (6) supports the harmonization and integration of performance measurement, accountability, and program evaluation; (7) provides agency-wide direction, standards, and technical assistance to support and guide program evaluation, monitoring, and performance measurement by programs; (8) guides the collection and analysis of performance and accountability data, including Healthy People 2020, the Program Assessment Rating Tool and the Government Performance and Results Act; (9) supports assessment of program effectiveness to guide further science, policy, and programmatic efforts; (10) manages evaluation fellowship; (11) guides performance-based strategic planning; (12) drives short-term and long-term program planning; (13) establishes routine, continuous improvement based on effective program evaluation, and performance measurement; (14) supports evidence-driven program redesign; (15) coordinates action planning for high impact initiatives; and (16) develops, promotes and coordinates new initiatives.

CDC-Washington Office (CAB). (1) Directs and manages CDC interactions with Congress; (2) develops and executes legislative strategies; (3) collaborates with the Office of the Chief Operating Officer on the development and execution of strategies in Congress that advance CDC appropriations priorities; (4) builds Congressional relations; (5) tracks and analyzes legislation; (6) develops strategy and leads response efforts for Congressional oversight; (7) builds relations with government agencies and other organizations to advance policy agendas, with an emphasis on federal agencies; (8) protects and advances the agency's reputation, scientific credibility, and interests; (9) informs CDC leadership of current developments and provides insight into the Washington policy environment; (10) coordinates District of Columbia-area assignees and helps maximize their impact in supporting the agency's strategies and priorities; and (11) coordinates CDC's partnership activities as they relate to Washington-based, or Washington-focused organizations, and works across the agency to advance Washington relationships.

Delete in its entirety the mission and functional statements for the Office of the Associate Director for Program (CAF), within the Office of the Director (CA).

Delete in its entirety the mission statement for the Management Analysis and Services Office (CAJRC), within the Office of the Chief Information Officer (CAJR), Office of the Chief Operating Officer (CAJ), and insert the following:

Management Analysis and Services Office (CAJRC). The Management Analysis and Services Office (MASO) mission is supporting the functioning and integrity of CDC's administrative functions. MASO supports the CDC mission through professional services in high impact areas across the agency. Customer-centered services are delivered by MASO in the areas of records management; federal advisory committee management; internal controls and risk management; and policy management. The scope of MASO's services also encompass oversight, regulatory interpretation, policy guidance, technical advice, and coordination in the areas of delegations of authority, organizations and functions, and electronic forms management.

Delete in its entirety the functional statement for the Information Services Branch (CAJRCC), within the Management Analysis and Services Office (CAJRC), and insert the following:

Information Services Branch (CAJRCC). (1) Develops and manages appropriate technology architecture and methodology for innovative and leading edge applications, databases, and systems that broaden and expand CDC's electronic resource toolbox; (2) provides CDC-wide electronic forms management services, including development, coordination of clearances, and inventory management; and (3) manages the agency Resource Index to support CDC call management services and hotlines.

Delete in its entirety the title for the Office of Prevention through Healthcare (CAQ12), within the Office of the Director (CAQ1), Office of the Associate Director for Policy (CAQ), and insert the title Office of Health System Collaboration (CAQ12).

Delete in their entirety the mission and functional statements for the Division of Communication Service (CAUD), and the Office of the Director (CAUD1), within the Office of the Associate Director for Communication (CAUD), and insert the following:

Division of Communication Services (CAUD). The Division of Communication Services (DCS) provides agency-wide CDC graphics, broadcast, photography, translation, interpretation and sign language, public information, and communication consultation/analysis leadership and support. To carry out its mission, the division performs the following functions: (1) Ensures broadcast functionality/broadcast engineering support including connectivity among physical assets such as the Global Communications Center, Emergency Operations Center, and continuity of operations for CDC; (2) develops and disseminates video and audio production; (3) manages CDC graphic design and production services including CDC branding and identity standards; (4) supports new broadcast communication mechanisms (e.g. HHS TV, CDC TV, radio/TV broadcast, podcast, webcast, and videos-on-demand) for CDC programs; (5) provides support for broadcast delivery press conferences and media interviews; (6) provides scientific and events photography; (7) provides multilingual translation and interpretation, sign language support, and cross cultural communication assistance to CIOs across CDC; (8) provides consultation and analysis of consumer research data to Centers/Institute/Offices (CIOs) used for developing and evaluating health communication and marketing to specific audiences; (9) manages day-to-day operations of meeting space within CDC's meeting center, the Global Communications Center; (10) manages CDC-INFO (CDC's telephone, email, and publications fulfillment services center); (11) oversees the agency-wide print management program; and (12) manages CDC-wide information services including electronic and postal distribution lists, and electronic announcements.

Office of the Director (CAUD1). (1) Develops the strategic priorities and manages the program activities of the division; (2) provides leadership for ensuring all DCS products are of the highest quality; (3) helps CIOs use existing or develop new mechanisms for communicating with the public and CDC partners; (4) coordinates support for meetings held in the Global Communications Center with internal and external customers; (5) coordinates the use of the CDC exhibit for public health conferences; (6) manages overall IT-related functions for the division, including Create-IT (DCS' online internal tracking and triage system), Trados SDL (translation memory application), and CDC-INFO IT applications; (7) provides and manages multi-year, multi-vendor CDC-wide communication contracts mechanism for use by CIO clients; (8) updates and manages Create-IT system for tracking and triage of work requests including associated customer satisfaction and other performance metrics for internal and external (CIO) use; (9) oversees the agency-wide print management program; (10) liaisons with contract suppliers, the Government Printing Office, HHS, and other agencies on matters pertaining to print and publication procurement; and (11) manages CDC-wide information services including electronic distribution lists, and electronic announcements.

Delete in its entirety the title and functional statement for the CDC Washington Office (CAQC), within the Office of the Associate Director for Policy (CAQ).

Delete in its entirety the title and functional statement for the Office of Diversity Management and Equal Employment Opportunity (CAV) and insert the following:

Office of Equal Employment Opportunity (CAV). The Office of Equal Employment Opportunity (OEEO) is located in the Office of the Director, Centers for Disease Control and Prevention (CDC). The Director, OEEO, serves as the principal advisor to the Director, CDC, on all equal employment opportunity matters. The mission of OEEO is to ensure an environment that promotes equal employment opportunity for all individuals, eradicates discrimination and harassment in all forms, and promotes an inclusive environment that empowers employees to participate and support CDC's global health mission. In carrying out its mission, OEEO: (1) Develops and recommends for adoption CDC-wide equal employment opportunity policies, goals, and priorities to carry out the directives of the U.S. Office of Personnel Management, U.S. Equal Employment Opportunity Commission, and Department of Health and Human Services (HHS) equal employment opportunity policies and requirements that are mandated by Title VII, Civil Rights Act of 1964; Age Discrimination in Employment Act (ADEA); Rehabilitation Act of 1973; Civil Service Reform Act; 29 CFR 1614, Federal Sector Equal Employment Opportunity; Executive Order 11478, Equal Employment Opportunity in the Federal Government; (2) provides leadership, direction, and technical guidance to CDC managers and staff for the development of comprehensive programs and plans; (3) coordinates and evaluates agency equal employment opportunity operations and plans, including affirmative action; (4) develops plans, programs, and procedures to assure the prompt receipt, investigation, and resolution of complaints of alleged discrimination by reason of race, sex, age, religion, national origin, handicap, or by reason of reprisal or retaliation; (5) coordinates the development of comprehensive special emphasis programs to assure full recognition of the needs of women, Hispanics, other minorities and the handicapped in hiring and employment; (6) identifies needs for OEEO functions within CDC and assures the development of a training curriculum for all CDC supervisory personnel; (7) prepares or coordinates the preparation of, reports and analyses designed to reflect the status of employment of women and minorities at CDC and maintains liaison with HHS and other organizations concerned with equal employment opportunity; (8) ensures effective coordination of OEEO activities with CDC personnel and training programs, and with CDC national centers manpower planning and support programs in the health professions; (9) develops a system of structured reviews and evaluations of CDC OEEO activities to assure effective operations and accountability; (10) assists in assuring the adequate allocation of resources for OEEO including the establishment of guidelines for recruiting, selection, and training of agency personnel; (11) develops and directs research and evaluation studies to focus on, and improve the effectiveness of, OEEO program activities; (12) provides direction for the agency's alternative dispute resolution activities; and (13) provides direct support for OEEO program activities in CDC.

Delete in its entirety the functional statement for the Office of Minority Health and Health Equity (CAW), and insert the following:

Office of Minority Health and Health Equity (CAW). In carrying out its mission, the Office of Minority Health and Health Equity: (1) Accelerates the work of CDC and its partners in improving health by eliminating health disparities, promoting conditions conducive to health, and achieving health equity; (2) provides leadership and support for the agency's research, policy, and prevention initiatives to promote and improve the health of women and girls; and (3) ensures CDC's diversity policies, procedures and practices support employees in reaching their full potential so that they may better accomplish CDC's mission and be effective guardians of public health.

Minority Health and Health Equity Activity (CAW12). (1) Reframes eliminating health disparities as achievable; (2) facilitates the implementation of policies across CDC that promote the elimination of health disparities; (3) assures implementation of proven strategies across CDC programs that reduce health disparities in communities of highest risk; (4) advances the science and practice of health equity; and (5) collaborates with national and global partners to promote the reduction of health inequalities.

Office of Women's Health (CAWB). The mission of the Office of Women's Health (OWH) is to provide leadership, advocacy, and support for the agency's research, policy, and prevention initiatives to promote and improve the health of women and girls. As the agency's leader for women's health issues, OWH: (1) Advises the CDC Director and leads the Women's Health Workgroup in the advancement of research, policies, and programs related to the health of women and girls; (2) provides leadership, assistance, and consultation to the agency's centers, offices, and programs to address women's health issues; (3) advances sound scientific knowledge, promotes the role of prevention, and works to improve the communication and understanding of women's health priorities for public health action by CDC and a diverse group of state and local programs, providers, consumers, and organizations; (4) creates, publishes, and disseminates communicative products and materials that highlight CDC priorities, opportunities, and strategies to improve health; (5) establishes and fosters relationships with others (i.e., government agencies, professional groups, academic institutions, organizations and small businesses) to increase awareness and strengthen implementation of women's health programs and practices; (6) represents the agency and serves as a liaison on women's health issues within and outside the Department of Health and Human Services; and (7) coordinates and manages efforts through dialogues, meetings, and other activities to increase awareness of public health and women's health issues.

Diversity and Inclusion Management Program (CAWC). In carrying out its mission, the Diversity Management Program (DMP): (1) Provides and coordinates leadership for diversity issues CDC-wide; (2) ensures CDC's diversity policies, procedures and practices support employees in reaching their full potential so that they may better accomplish CDC's mission and be effective guardians of public health.

Dated: December 16, 2013.
Sherri A. Berger,
Chief Operating Officer, Centers for Disease Control and Prevention.

[FR Doc. 2013-30850 Filed 12-30-13; 8:45 am]

BILLING CODE 4160-18-M